DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its sixty-third.

Name: National Advisory Committee on Rural Health and Human Services.

Dates and Times: September 9, 2009, 9 a.m.-4:45 p.m.; September 10, 2009, 8:30 a.m.-4 p.m.; September 11, 2009, 8:45 a.m.-11 a.m.

Place: Sheraton Grand Hotel, 1230 J Street, Sacramento, California 95814, Phone: 916-341-3605.

Status: The meeting will be open to the public.

Purpose: The National Advisory Committee on Rural Health and Human Services provides advice and recommendations to the Secretary with respect to the delivery, research, development and administration of health and human services in rural areas.

Agenda: Wednesday morning, at 9 a.m., the meeting will be called to order by the Chairperson of the Committee, the Honorable David Beasley. The first two presentations will be overviews of rural California. The remainder of the day the Committee will hear presentations on the three chosen Subcommittee topics. The first panel will focus on Primary Care Workforce. The second panel is Home-Based Care Options for Seniors. The final panel of the day is Health Care Provider Integration. After the panel discussions, the Committee Chair will give an overview of the site visits. This will be followed by a call for public comment. The Tuesday meeting will close at 4:45 p.m.

Thursday morning, at 8:30 a.m., the Committee will break into Subcommittees and depart to the site visits. The Primary Care Workforce Subcommittee and the Health Care Provider Integration Subcommittee will meet at Sutter Amador Hospital in Jackson, California. The Home-Based Care Options for Seniors Subcommittee will meet at Madelyn Helling Library in Nevada City, California. The Subcommittees will return to the Sheraton Grand Hotel in Sacramento at 4 p.m. Transportation to the site visits will not be provided to the public. The Thursday meeting will close at 4 p.m.

The final session will be convened on Friday morning at 8:45 a.m. The meeting will open with a review of the Subcommittee site visits. The staff of the Office of Rural Health Policy will provide an update on the Department of Health and Human Services. The Committee will draft a letter to the Secretary or Designee and discuss the February 2010 meeting. The meeting will be adjourned at 11 a.m.

For Further Information Contact: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray Gibson, Office of Rural Health Policy (ORHP), Telephone (301) 443-0835. The Committee meeting agenda will be posted on ORHP's Web site http://www.ruralhealth.hrsa.gov.

Dated: August 19, 2009.
Alexandra Huttinger,
Director, Division of Policy Review and Coordination.

[FR Doc. E9-20342 Filed 8-24-09; 8:45 am]

BILLING CODE 4165-15-P